DEPARTMENT OF TRANSPORTATION

Federal Aviation Administration

14 CFR Part 39

[Docket No. FAA-2012-1305; Directorate Identifier 2010-SW-041-AD; Amendment 39-17475; AD 2013-11-15]

RIN 2120-AA64

Airworthiness Directives; Eurocopter Deutschland GmbH Helicopters

AGENCY: Federal Aviation Administration (FAA), DOT.

ACTION: Final rule.

SUMMARY: We are adopting a new airworthiness directive (AD) for Eurocopter Deutschland GmbH (Eurocopter) Model BO-105A, BO-105C, BO-105S, BO-105LS A-1, BO-105LS A-3, EC135 P1, EC135 P2, EC135 P2+, EC135 T1, EC135 T2, EC135 T2+, MBB-BK 117 A-1, MBB-BK 117 A-3, MBB-BK 117 A-4, MBB-BK 117 B-1, MBB-BK 117 B-2, MBB-BK 117 C-1, and MBB-BK 117 C-2 helicopters with certain part-numbered cantilever assemblies, cyclic stick locking devices, or cyclic stick holder assemblies installed. This AD requires modifying and identifying the cyclic stick cantilever or lock. This AD was prompted by pilots inadvertently taking off with the cyclic locked. The actions of this AD are intended to prevent a pilot taking off with the cyclic in the locked position, which could result in loss of control of the helicopter.

DATES: This AD is effective July 26, 2013.

The Director of the Federal Register approved the incorporation by reference of certain documents listed in this AD as of July 26, 2013.

ADDRESSES: For service information identified in this AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Matt Fuller, Senior Aviation Safety Engineer, Safety Management Group, Rotorcraft Directorate, FAA, 2601 Meacham Blvd., Fort Worth, Texas 76137; telephone (817) 222-5110; email matthew.fuller@faa.gov.

SUPPLEMENTARY INFORMATION:

Discussion

On January 10, 2013, at 78 FR 2223, the Federal Register published our notice of proposed rulemaking (NPRM), which proposed to amend 14 CFR part 39 to include an AD that would apply to Eurocopter Model BO-105A, BO-105C, BO-105S, BO-105LS A-1, BO-105LS A-3, EC135 P1, EC135 P2, EC135 P2+, EC135 T1, EC135 T2, EC135 T2+, MBB-BK 117 A-1, MBB-BK 117 A-3, MBB-BK 117 A-4, MBB-BK 117 B-1, MBB-BK 117 B-2, MBB-BK 117 C-1, and MBB-BK 117 C-2 helicopters with certain part-numbered cantilever assemblies, cyclic stick locking devices, or cyclic stick holder assemblies installed. The NPRM proposed to require modifying and identifying the cyclic stick cantilever or lock. The proposed requirements were intended to prevent a pilot taking off with the cyclic in the locked position, which could result in loss of control of the helicopter.

The European Aviation Safety Agency (EASA), which is the Technical Agent for the Member States of the European Union, issued EASA AD No. 2008-0113, dated June 10, 2008, to correct an unsafe condition for the Model EC135, EC635 and MBB-BK 117 C-2 helicopters. EASA advises of several cases where takeoff was executed with a locked cyclic stick on EC135 series helicopters, which may lead to loss of control of the helicopter. EASA also advises that the stick-locking device installed on Model BO 105 and MBB-BK 117C-2 helicopters has a similar function as the device installed on the EC135 series helicopters. Therefore, EASA issued AD No. 2009-0079, dated April 1, 2009, to require modification of the cyclic-stick locking/centering device for the Model BO 105 and MBB-BK 117 helicopters.

After EASA AD No. 2009-0079 was issued, type design ownership for the Model BO-105 LS A3 was transferred from Canada to Germany. Because Transport Canada had not issued an AD prior to the transfer, EASA superseded AD No. 2009-0079 with AD No. 2010-0049, dated March 19, 2010, to include Model BO-105 LS A3 in its applicability. The EASA ADs also require amending the applicable Rotorcraft Flight Manual (RFM).

Comments

We gave the public the opportunity to participate in developing this AD, but we did not receive any comments on the NPRM (78 FR 2223, January 10, 2013).

FAA's Determination

These helicopters have been approved by the aviation authority of Germany and are approved for operation in the United States. Pursuant to our bilateral agreement with Germany, EASA, its technical representative, has notified us of the unsafe condition described in the AD. We are issuing this AD because we evaluated all information provided by EASA and determined the unsafe condition exists and is likely to exist or develop on other helicopters of these same type designs and that air safety and the public interest require adopting the AD requirements as proposed.

Differences Between This AD and the EASA AD

This AD does not apply to Model BO-105D, BO-105DB, BO-105DB-4, BO-105DBS-4, BO-105DBS-5, BO-105DS or the military Model EC635 helicopters because these models are not type certificated in the United States. The EASA AD requires amending the RFM; this AD does not because the RFM revisions have been incorporated by the type certificate holder.

Related Service Information

Eurocopter has issued the following alert service bulletins (ASB) for each of its model helicopters:

• ASB BO105-40-106, dated December 19, 2008, for all Model BO105 helicopters, except Model BO105 CB-3.

• ASB-BO 105 LS 40-10, dated May 8, 2009, for all Model BO 105 LS A-3 helicopters.

• ASB EC135-67A-015, dated April 14, 2008, for certain serial-numbered Model EC135 and EC635 helicopters.

• ASB-MBB-BK117-40-113, dated December 22, 2008, for all Model MBB-BK117 Models A-1, A-3, A-4, B-1, B-2, C-1.

• ASB MBB BK117 C-2-67A-008, dated April 14, 2008, for certain serial-numbered Model MBB BK117 C-2 helicopters.

These ASBs specify procedures to modify the cantilever assembly or the cyclic stick locking device, which allows neutral positioning and centering of the cyclic stick without the locking feature.

Costs of Compliance

We estimate that this AD will affect 416 helicopters of U.S. Registry.

We estimate that operators may incur the following costs in order to comply with this proposed AD. It will take about .5 work hour to modify the cyclic stick lock at $85 per work hour with no cost for parts. This results in a total estimated cost of $43 per helicopter and $17,680 for the fleet.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-11-15 Eurocopter Deutschland GmbH: Amendment 39-17475; Docket No. FAA-2012-1305; Directorate Identifier 2010-SW-041-AD.

(a) Applicability

This AD applies to the following Eurocopter Deutschland GmbH (Eurocopter) model helicopters, with a listed cantilever assembly, cyclic stick locking device, or cyclic stick holder assembly part number (P/N) installed, certificated in any category:

(1) Model BO-105A, BO-105C, BO-105S, and BO-105LS A-1 helicopters with a cantilever assembly, P/N 105-40132 or 105-40139, installed.

(2) Model BO 105 LS A-3 helicopters with a cantilever assembly, P/N 105-40139, installed.

(3) Model EC135 P1, EC135 P2, EC135 P2+, EC135 T1, EC135 T2, and EC135 T2+ helicopters, serial number (S/N) 0005 up to and including S/N 0699 except S/Ns 0076, 0093, 0098, 0099, 0102, 0104, 0106, 0108, 0110, 0111, 0113, 0114, 0116, 0117, and 0119, with a cyclic stick locking device, P/N L670M1045101, L670M1045102, L670M1045104, L670M1045105, L670M1045106, or L670M1045107, and Pin, P/N L311M1038205 or L311M1099205, installed.

(4) Model MBB-BK117 A-1, MBB-BK117 A-3, MBB-BK117 A-4, MBB-BK117 B-1, MBB-BK117 B-2, and MBB-BK117 C-1 helicopters, with a cyclic stick holder assembly, P/N 117-41140-01, 117-41230-01, or 117-41230-03, installed.

(5) Model MBB-BK117 C-2 helicopters, S/N 9004 up to and including S/N 9230, with a cyclic stick locking device, P/N B856M1011101, and Pin, P/N L311M1038205 or L311M1099205, installed.

(b) Unsafe Condition

This AD defines the unsafe condition as inadvertent locking of the cyclic prior to take off, which could result in loss of control of the helicopter.

(c) Effective Date

This AD becomes effective July 26, 2013.

(d) Compliance

You are responsible for performing each action required by this AD within the specified compliance time unless it has already been accomplished prior to that time.

(e) Required Actions

Within 100 hours time-in-service:

(1) For Model BO-105A, BO-105C, BO-105S, and BO-105LS A-1 helicopters, modify and identify the cyclic stick locking device by following the Accomplishment Instructions, paragraphs 2.B.1. through 2.B.2.4 and 2.B.3. through 2.B.3.3., of Eurocopter Alert Service Bulletin (ASB) No. BO105-40-106, dated December 19, 2008.

(2) For Model BO-105 LS A-3 helicopters, modify and identify the cyclic stick locking device by following the Accomplishment Instructions, paragraphs 2.B.1.through 2.B.1.3, of Eurocopter ASB No. ASB-BO 105 LS 40-10, dated May 8, 2009.

(3) For Model EC135 P1, EC135 P2, EC135 P2+, EC135 T1, EC135 T2, and EC135 T2+ helicopters, modify and identify the cyclic stick cantilever by following the Accomplishment Instructions, paragraphs 3.B. through 3.C., of Eurocopter ASB EC135-67A-015, dated April 14, 2008.

(4) For Model MBB-BK 117 A-1, MBB-BK 117 A-3, MBB-BK 117 A-4, MBB-BK 117 B-1, MBB-BK 117 B-2, and MBB-BK 117 C-1 helicopters, modify and identify the cyclic stick locking device by following the Accomplishment Instructions, paragraphs 2.B.1. through 2.B.2.2., of Eurocopter ASB No. ASB-MBB-BK117-40-113, dated December 22, 2008.

(5) For Model MBB-BK117 C-2 helicopters, modify and identify the cyclic stick cantilever by following the Accomplishment Instructions, paragraphs 3.B. through 3.C., of Eurocopter ASB MBB BK117 C-2-67A-008, dated April 14, 2008.

(f) Alternative Methods of Compliance (AMOCs)

(1) The Manager, Safety Management Group, FAA, may approve AMOCs for this AD. Send your proposal to: Matt Fuller, Senior Aviation Safety Engineer, Safety Management Group, Rotorcraft Directorate, FAA, 2601 Meacham Blvd., Fort Worth, Texas 76137; telephone (817) 222-5110; email matthew.fuller@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in European Aviation Safety Agency (EASA) AD No. 2010-0049, dated March 19, 2010, which superseded EASA AD No. 2009-0079, dated April 1, 2009; and EASA AD No. 2008-0113, dated June 10, 2008. You may view the EASA AD at http://www.regulations.gov by searching for and locating it in Docket No. FAA-2012-1305.

(h) Subject

Joint Aircraft Service Component (JASC) Code: 6710 Main Rotor Control.

(i) Material Incorporated by Reference

(1) The Director of the Federal Register approved the incorporation by reference (IBR) of the service information listed in this paragraph under 5 U.S.C. 552(a) and 1 CFR part 51.

(2) You must use this Eurocopter service information as applicable to do the actions required by this AD, unless the AD specifies otherwise.

(i) ASB BO105-40-106, dated December 19, 2008.

(ii) ASB-BO 105 LS 40-10, dated May 8, 2009.

(iii) ASB EC135-67A-015, dated April 14, 2008.

(iv) ASB-MBB-BK117-40-113, dated December 22, 2008.

(v) ASB MBB BK117 C-2-67A-008, dated April 14, 2008.

(3) For Eurocopter Deutschland GmBh helicopters service information identified in this AD, contact American Eurocopter Corporation, 2701 N. Forum Drive, Grand Prairie, TX 75052; telephone (972) 641-0000 or (800) 232-0323; fax (972) 641-3775; or at http://www.eurocopter.com/techpub.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on May 29, 2013.
Kim Smith,
Directorate Manager, Rotorcraft Directorate, Aircraft Certification Service.

[FR Doc. 2013-13473 Filed 6-20-13; 8:45 am]

BILLING CODE 4910-13-P